DEPARTMENT OF THE INTERIOR

United States Geological Survey; Notice of an Open Meeting of the Advisory Committee on Water Information (ACWI).

SUMMARY: Notice is hereby given of a meeting of the ACWI. This meeting is to discuss broad policy-related topics relating to national water initiatives, and the development and dissemination of water information, through reports from eight ACWI subgroups. The agenda will include presentation of a proposed Design for a National Water Quality Monitoring Network for Coastal Waters and Their Tributaries. The ACWI has been established under the authority of the Office of Management and Budget Memorandum M92-01 and the Federal Advisory Committee Act. The purpose of the ACWI is to provide a forum for water information users and professionals to advise the Federal Government of activities and plans that may improve the effectiveness of meeting the Nation's water information needs. Member organizations help to foster communications between the Federal and non-Federal sectors on sharing water information.

Membership represents a wide range of water resources interests and functions. Representation on the ACWI includes all levels of government, academia, private industry and professional and technical societies. Member organizations designate their representatives and alternates. Membership is limited to a maximum of 35 organizations.

DATES: The formal meeting will convene at 8:30 a.m. on January 18, 2006, and will adjourn on January 19, 2006 at 4:30 p.m.

ADDRESSES: Days Hotel and Conference Center, 2200 Centreville Road, Herndon, Virginia.

FOR FURTHER INFORMATION CONTACT: Ms. Toni M. Johnson (Executive Secretary), Chief, Water Information Coordination Program, U.S. Geological Survey, 12201 Sunrise Valley Drive, MS 417, Reston, VA 20192. Telephone: 703-648-6810; Fax: 703-648—5644.

SUPPLEMENTARY INFORMATION: This meeting is open to the public. Up to a half hour will be set aside for public comment. Persons wishing to make a brief presentation (up to 5 minutes) are asked to provide a written request with a description of the general subject to Ms. Johnson at the above address no later than noon, January 6, 2006. It is requested that 40 copies of a written statement be submitted at the time of the meeting for distribution to members of the ACWI and placement in the official file. Any member of the public may submit written information and (or) comments to Ms. Johnson for distribution at the ACWI meeting.

Dated: December 2, 2005.
Katherine Lins,
Chief, Office of Water Information.

[FR Doc. 05-23774 Filed 12-7-05; 8:45 am]

BILLING CODE 4311-AM-M